DEPARTMENT OF COMMERCE

International Trade Administration

[A-549-502]

Circular Welded Carbon Steel Pipes and Tubes from Thailand: Extension of Time Limit for Preliminary Results of Antidumping Duty Administrative Review

AGENCY: Import Administration, International Trade Administration, Department of Commerce

EFFECTIVE DATE: November 25, 2009.

FOR FURTHER INFORMATION CONTACT: Jacqueline Arrowsmith, AD/CVD Operations, Office 6, Import Administration, International Trade Administration, Department of Commerce, Room 7866, 14th Street and Constitution Avenue, NW, Washington DC 20230; telephone: (202) 482-5255.

SUPPLEMENTARY INFORMATION:

Background

On April 27, 2009, the Department published the initiation of the administrative review of the antidumping duty order on circular welded carbon steel pipes and tubes (pipes and tubes) from Thailand for the period March 1, 2008 through February 28, 2009. See Initiation of Antidumping and Countervailing Duty Administrative Reviews and Request for Revocation in Part 74 FR FR 19042 (April 27,2009) (Initiation Notice). This review covers the respondent, Saha Thai Steel Pipe (Public) Co., Ltd. (Saha Thai), a producer/exporter of the subject merchandise to the United States.

Extension of Time Limit for the Preliminary Results

Section 751(a)(3)(A) of the Tariff Act of 1930, as amended (the Act), and section 351.213(h)(1) of the Department's regulations require the Department to issue the preliminary results of a review within 245 days after the last day of the anniversary month of the order or suspension agreement for which the administrative review was requested, and final results of the review within 120 days after the date on which the notice of the preliminary results is published in the Federal Register. However, if the Department determines that it is not practicable to complete the review within the aforementioned specified time limits, section 751(a)(3)(A) of the Act and section 351.213(h)(2) of the Department's regulations allow the Department to extend the 245-day period to 365 days and to extend the 120-day period to 180 days.

The Department requires additional time to evaluate Saha Thai's questionnaire responses in order to conduct a thorough analysis of all information on the record. Specifically, the Department needs more time to analyze respondent's cost information and to consider whether to use quarterly costs as Saha Thai has requested. The Department, therefore, finds that it is not practicable to complete the preliminary results of this review within the original time limit and is extending the deadline for completion of the preliminary results of this administrative review of the antidumping duty order on circular welded carbon steel pipes and tubes from Thailand by 120 days, from December 1, 2009 to March 31, 2010.

This notice is issued and published pursuant to sections 751(a)(3)(A) and 777(i)(1) of the Act.

Dated: November 18, 2009.
John M. Andersen,
Acting Deputy Assistant Secretary for Antidumping and Countervailing Duty Operations.

[FR Doc. E9-28275 Filed 11-24-09; 8:45 am]

BILLING CODE 3510-DS-S